DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Maryland Transit Administration

[Modification to Waiver Petition Docket Number FRA-2000-7054/7286]

As a modification to the Maryland Transit Administration's (MTA) existing Shared Use/Temporal Separation waiver originally granted by FRA on January 19, 2001, MTA is requesting that FRA modify the original terms and conditions of its permanent waiver of compliance from sections of Title 49 of the CFR for operation of its Cockeysville Light Rail Line (CLRL) due to changes that have recently occurred. (See “Statement of Agency Policy Concerning Jurisdiction Over the Safety of Railroad Passenger Operations and Waivers Related to Shared Use of the Tracks of the General Railroad System by Light Rail and Conventional Equipment,” 65 FR 42529 (July 10, 2000). See also “Joint Statement of Agency Policy Concerning Shared Use of the Tracks of the General Railroad System by Conventional Railroads and Light Rail Transit Systems,” 65 FR 42626 (July 10, 2000).)

In this regard, the Norfolk Southern Railway Company (NS), which operates a freight railroad sharing track temporally with the CLRL, is ceasing freight service on the CLRL from a point at Chain Marker 122 continuing northward to the end of the line. The sole exception to this is at Chain Marker 122, where NS continues to cross the CLRL via a diamond crossover to service the NS Flexi-Flo facility. In regard to this, NS has filed a Petition for Exemption for authority to abandon the freight service on the CLRL (see Surface Transportation Board (STB) Docket No. AB-290, Sub No. 237X, Norfolk Southern Ry. Co.—Abandonment Exemption—In Baltimore Co., MD), and is awaiting STB resolution at this time.

Due to the cessation of NS freight service on the CLRL from a point at Chain Marker 122 northward, MTA is requesting that FRA determine that there is no longer shared use on the CLRL and that waivers are no longer necessary because the statutes and regulations covered in the Shared Use Policy Statement no longer apply to the CLRL north of that point. Also, MTA agrees that the waivers that were approved in the January 19, 2001, decision letter that are relevant at the diamond crossing will remain in effect, and that Standard Operating Procedure LR.07.02.04, which replaces MTA Procedure No. 6.33, provides sufficient protection at the interlocked diamond crossover. Lastly, MTA requests that, to the extent FRA regulations apply in any manner, FRA waive the requirements of 49 CFR Part 219, Control of Alcohol and Drug Abuse, for MTA employees who control the operation of the NS trains across the diamond because it is adopting the Federal Transit Administration's drug and alcohol policy, which provides an equivalent level of oversight.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2000-7054/7286) and must be submitted to the Docket Clerk, DOT Docket Management Facility, 1200 New Jersey Avenue SE., West Building Ground Floor, Room W12-140, Washington, DC 20590.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on June 28, 2007.
Grady C. Cothen, Jr.,
Deputy Associate Administrator for Safety Standards and Program Development.

[FR Doc. E7-13029 Filed 7-3-07; 8:45 am]

BILLING CODE 4910-06-P